NATIONAL SECURITY COMMISSION ON ARTIFICIAL INTELLIGENCE

[Docket No. 11-2020-01]

National Security Commission on Artificial Intelligence; Notice of Federal Advisory Committee Meeting

AGENCY: National Security Commission on Artificial Intelligence.

ACTION: Notice of Federal Advisory Committee meeting.

SUMMARY: The National Security Commission on Artificial Intelligence (the “Commission”) is publishing this notice to announce the following asynchronous Federal Advisory Committee meeting and paper review process. The meeting will be closed to the public.

DATES: Closed to the public, December 15, 2020 to February 14, 2021.

FOR FURTHER INFORMATION CONTACT: Ms. Angela Ponmakha, 703-614-6379 (Voice), nscai-dfo@nscai.gov. Mailing address: Designated Federal Officer, National Security Commission on Artificial Intelligence, 2530 Crystal Drive, Box 45, Arlington, VA 22202. website: https://www.nscai.gov.

SUPPLEMENTARY INFORMATION: The meeting and paper review process are being held under the provisions of the Federal Advisory Committee Act (FACA) (5 U.S.C., Appendix), the Government in the Sunshine Act (5 U.S.C. 552b), and 41 CFR 102-3.140 and 102-3.150.

Purpose of the Meeting: The John S. McCain National Defense Authorization Act for Fiscal Year 2019 (FY19 NDAA), Sec. 1051, Public Law 115-232, 132 Stat. 1636, 1962-65 (2018), created the Commission to “consider the methods and means necessary to advance the development of artificial intelligence, machine learning, and associated technologies by the United States to comprehensively address the national security and defense needs of the United States.” The Commission will consider potential recommendations to Congress and the Executive Branch. According to the FY19 NDAA, the Commission “may include a classified annex.”

Agenda: Due to the restrictions on in-person meetings imposed by the COVID-19 pandemic—including travel, social distancing, and other factors—the Commission will hold an asynchronous Federal Advisory Committee meeting beginning on or about December 15, 2020 and ending on or about February 14, 2020. For the asynchronous meeting, individual commissioners or small groups of commissioners will meet with Commission staff during this period of time to discuss and deliberate specifically on the Commission's draft classified annex. The Designated Federal Officer, Ms. Angela Ponmakha, or an alternate designated federal officer will convene and conclude all such meetings. Due to the restrictions from the COVID-19 pandemic, Commissioners may also deliberate and vote on the classified annex through a paper approval process managed by the Designated Federal Officer and relevant Commission staff. All materials and discussions in the asynchronous meeting and paper approval process will be classified.

Meeting Accessibility: In accordance with Section 10(d) of the FACA, NSCAI has determined the series of meetings and paper approval process will be closed to the public. Specifically, the Commission's Committee Management Officer, in consultation with the General Services Administration's Secretariat and Office of General Counsel, has determined in writing that the meetings will be closed to the public because they will consider matters covered by 5 U.S.C. 552b(c)(1). The determination is because it is expected that discussions throughout the course of the asynchronous meeting and the paper approval process will involve classified matters of national security concern. Such classified material is so intertwined with the unclassified material that it cannot be reasonably segregated into separate discussions without defeating the effectiveness and meaning of the overall meetings. To permit the meeting to be open to the public would preclude discussion of such matters and would greatly diminish the ultimate utility of the Commission's findings and recommendations to the Congress and the President.

Written Statements: Written comments may be submitted to the Commission at any time regarding its mission or in response to the stated agenda of planned meetings via email to: nscai-dfo@nscai.gov in either Adobe Acrobat or Microsoft Word format. The DFO will compile all written submissions and provide them to the Commissioners for consideration. Please note that all submitted comments will be treated as public documents and will be made available for public inspection, including, but not limited to, being posted on the Commission's website.

Dated: November 24, 2020.
Michael Gable,
Chief of Staff.

[FR Doc. 2020-26365 Filed 11-27-20; 8:45 am]

BILLING CODE 3610-Y8-P